TENNESSEE VALLEY AUTHORITY

Use of Lands Acquired for the Columbia Dam Component of the Duck River Project and Future Water Supply Needs in the Upper Duck River Basin

AGENCY: Tennessee Valley Authority (TVA).

ACTION: Issuance of records of decision.

SUMMARY: This notice is provided in accordance with the Council on Environmental Quality's regulations (40 CFR 1500 to 1508) and TVA's implementing procedures. TVA has decided to implement Alternative D/C (intermediate alternative) in its Final Environmental Impact Statement (EIS), Use Of Lands Acquired For The Columbia Dam Component Of The Duck River Project. In addition, TVA has decided to recommend to local utilities, government agencies, and other interested parties in the upper Duck River watershed that one or more of the action alternatives addressed in the TVA Final EIS, Future Water Supply Needs in the Upper Duck River Basin be pursued to meet the future water needs in that area. TVA is not proposing to implement any of these water supply alternatives itself.

The Columbia Land Use Final EIS was made available to the public in April 1999. A Notice of Availability of the Final EIS was published in the Federal Register on April 16, 1999. TVA made a decision to implement Option 2 to stabilize the unfinished Columbia Dam structure on May 17, 1999. Under Alternative D/C, the agency preferred land use alternative, TVA seeks to balance public use and protection of project lands and to be responsive to public comments received during the EIS process.

To implement Land Use Alternative D/C, TVA has decided to transfer all of the Columbia Project lands, 5200 hectares (12,800 acres) of land in Maury County, Tennessee, to the state of Tennessee subject to various easements and restrictions.

Under the deed restrictions, most of the land is to be managed to enhance recreational use of the area and to protect natural and cultural resources. Up to 800 hectares (2000 acres) of land could be devoted to other recreational uses, including residential development if the State decides to do this. An additional 1550 hectares (3800 acres) would be preserved for the possible construction of a water supply and compatible recreation reservoir (Water Supply EIS Alternative B). This reservoir was identified as one way to meet the future water supply needs of the Maury/southern Williamson County Water Service Area. In the interim, these preserved tracts would be managed for wildlife and other recreation uses.

The Columbia Water Supply Final EIS was made available to the public in February 2001. A Notice of Availability of the Final EIS was published in the Federal Register on March 2, 2001. TVA's preferred alternative is that one or more of the action alternatives should be pursued by local utilities, government agencies, and other interested parties in the upper Duck River watershed to meet the future water needs in the Maury/southern Williamson County Water Service Area.

FOR FURTHER INFORMATION CONTACT: Linda B. Oxendine, Senior NEPA Specialist, Environmental Policy & Planning, Tennessee Valley Authority, 400 West Summit Hill Drive, WT 8C, Knoxville, Tennessee 37902-1499; telephone (865) 632-3440 or e-mail lboxendine@tva.gov.

SUPPLEMENTARY INFORMATION: In 1968, TVA proposed the Duck River Project, a project that would have resulted in the construction of two dams and reservoirs on the Duck River in middle Tennessee, south of Nashville. As proposed, one dam was to be built at River Mile 248, near Normandy, and the other at River Mile 136, near Columbia. Congress began appropriating money for the Duck River Project in December 1969. Construction of Normandy Dam and Reservoir began in June 1972 and was completed in 1976. Construction of Columbia Dam and Reservoir was begun in August 1973, but was halted in 1983 because of potential impacts to at least two endangered mussel species which occur in the proposed reservoir pool area.

In 1995, after conservation efforts for the endangered mussel species had failed to meet established criteria, TVA decided that Columbia Dam and Reservoir could not be completed. At that time, TVA proposed to address two partially-related purposes of the original project: future use of the lands that had been acquired, and water supply needs in the upper Duck River watershed.

The Columbia Project lands are located along the Duck River between the city of Columbia (on the west) and U.S. Route 431, Lewisburg-Franklin Pike (on the east), in Maury County, Tennessee. The reach of the Duck River included in this study extends from approximately River Mile 130, in Columbia, upstream to River Mile 165, at Carpenters Bridge, 3 kilometers (2 air miles) west of U.S. Route 431.

When construction was halted in 1983, the Columbia Project was about 45 percent complete. The concrete portion of the dam was about 90 percent complete and the earth-filled section was about 60 percent complete. The river had been moved to flow through a 600-meter (2000-foot) long diversion channel located along the east side of the work site and a dike had been built to keep normal stream flow out of the spillway construction site. Approximately 46 percent of the land required for the reservoir (5200 of 11,140 hectares (12,800 of 27,500 acres)) had been acquired, and approximately half of the 72 kilometers (45 miles) of roads affected by the reservoir had been relocated.

Present status of sensitive resources in the project area includes the presence of at least four federal endangered species, unusually diverse aquatic and terrestrial communities, and a number of important archaeological sites. During the past decade, the Columbia Project lands have become important public hunting grounds in middle Tennessee. At the same time, increasing numbers of people are building homes and businesses around the area.

On February 25, 1995, TVA issued a Notice of Intent (NOI) to prepare an EIS on alternative uses for the land acquired as part of the Columbia Project. A similar NOI for the Water Supply EIS was published in the Federal Register on March 9, 1995. The Tennessee Duck River Development Agency, the U.S. Army Corps of Engineers, and the U.S. Fish and Wildlife Service decided to cooperate in the preparation of both EIS documents. In addition, the Tennessee Department of Environmental and Conservation decided to cooperate in the preparation of the Water Supply EIS. Public scoping meetings were held at Culleoka School near the Project site on April 18 and May 2, 1995, on the Land Use EIS and Water Supply EIS, respectively. The Notice of Availability (NOA) on the Draft Land Use EIS was published on January 6, 1997, and a similar NOA on the Draft Water Supply EIS was published on September 15, 2000. The public and interested agencies were invited to submit written comments on the draft Land Use EIS and to attend a public meeting on January 27, 1997, at Columbia Senior High School. The public and interested agencies were invited to submit written comments on the draft Water Supply EIS and to attend a public meeting on September 28, 2000, at the same location.

For the Land Use EIS, TVA received a total of 2,890 separate sets of comments which included input from over 4,600 individuals, three federal agencies, four state agencies, six identified county and local governmental agencies, and over 20 other organizations. The comments indicated that most people and agencies want the bulk of the Columbia Project lands to be available for a variety of public uses. Comments also included making land available for public services, such as schools and convenience centers, and to resolve access problems created when only part of the proposed Columbia Reservoir lands were acquired. The Notice of Availability of the Final EIS was published on April 16, 1999.

With regard to the Water Supply EIS, TVA received comments from 130 participants at the public meeting and a total of 364 letters, which included input from 339 individuals, three federal agencies, seven state agencies, two municipalities, eight state-level non-governmental agencies, and four local-level non-governmental agencies. Many of the comments made about the Land Use EIS also addressed issues covered in the Water Supply EIS.

Alternatives Considered

Land Use Alternatives

Based on comments received during the scoping process, TVA initially considered four land use alternatives and three dam stabilization options in the Draft EIS. In response to public and agency comments on the Draft EIS, TVA and the cooperating agencies identified and evaluated a fifth, intermediate, alternative in the Final EIS.

On May 17, 1999, TVA issued a Record of Decision on dam stabilization and decided to implement Option 2 to stabilize flood elevation at their present levels, address public safety concerns, and avoid substantial additional construction in the river.

With respect to the land use alternatives, under Alternative A—Continue Present Uses (No Action), there would be no wholesale change in TVA ownership or use of the Columbia Project lands. Most of the land would continue to be used for informal recreation while some would be licensed for agricultural uses. Parcels of land could be transferred to other agencies, sold at public auction, or used for specific purposes following completion of appropriate NEPA reviews.

Under Alternative B—Protective River Corridor, only those Columbia Project lands in a narrow corridor along the Duck River would remain in public ownership. Informal recreation could occur on the river and in the corridor, so long as it did not cause negative impacts on the natural or cultural resources which occur there. Nearly all Columbia Project lands outside of this corridor would be transferred to other agencies or sold at public auction.

Under Alternative C—Protective and Recreation Corridor, additional lands would remain in public ownership beyond those identified as part of the protective river corridor. The additional land would provide better protection for the river and enhance the potential for various types of formal recreational development. Lands not included in this larger corridor would be transferred to other agencies or sold at public auction.

Under Alternative D—Resource Management Area, most of the Columbia Project lands would be transferred to a federal or state agency to be managed, in part, to protect natural and cultural resources. The extent of recreational development and other compatible uses of the land would be determined by the receiving agency. Only a few outlying parcels of Columbia Project land would be sold at public auction.

Under Alternative D/C—Public Use and Protection—all of the Columbia Project lands would be transferred to the state of Tennessee or some specific state or federal agency. The extent of recreational development and other compatible uses of this land would be determined by the State or receiving agency but would have to meet land use and environmental restrictions included in the transfer document. Up to 800 hectares (2000 acres) of land (Possible Development Areas) could be devoted to other recreational-based uses, including residential development. An additional 1550 hectares (3800 acres) in the Fountain Creek area would be set aside for a possible water supply and compatible recreation reservoir in the future. In the interim, this land would be managed for wildlife and recreation activities.

While the land use alternatives differ from each other in several ways, each proposed setting aside the 1550 hectares (3800 acres) of project lands in the Fountain Creek watershed for a water supply and compatible recreation reservoir project later described as Alternative B in the Water Supply EIS. Of the five alternatives, four (Alternatives A, B, C, and D/C) include varying amounts of residential, commercial, and/or industrial development on parts of the Columbia Project lands; Alternative D/C includes no industrial development.

Water Supply Alternatives

The Water Supply EIS was developed to achieve three purposes: (1) To document if one or more of the three water service areas in the upper Duck River basin has a projected need for additional water before about 2050, (2) to identify potential ways to meet any identified water needs in the three water service areas, and (3) to determine the likely environmental effects of the water-supply alternatives that were identified.

The results from the needs analysis indicate that water releases from Normandy Dam would meet projected needs in the Bedford County and Marshall County Water Service Areas through 2050; however, the Maury/southern Williamson County Service Area (the area around Columbia) would need additional water starting some time after 2015. Five broad concepts for meeting water supply needs were evaluated in detail, including the No Action alternative. Under Alternative A—No Action, no new source of water would be developed to meet the projected future needs of the Maury/southern Williamson County Water Service Area. Under Alternative B—Fountain Creek Reservoir, a water supply reservoir would be constructed on Fountain Creek along with a five-mile long pipeline to transport water from the reservoir to a new treatment plant and to the existing water-distribution system. Under Alternative C—Downstream Intake, a water-supply intake and pumping station would be constructed on the Duck River in western Maury County along with a 13-mile pipeline to transport water to a new treatment plant and to the existing water-distribution system. Under Alternative D—Raise Normandy Pool Level, the pool level on Normandy Reservoir would be raised and the minimum discharge from Normandy Dam would be increased. Under Alternative E—Tims Ford Intake, a water-supply intake and pumping station would be constructed on Tims Ford reservoir along with a 20-mile pipeline to transport water to a discharge point on the Duck River near Shelbyville in Bedford County.

In the Water Supply EIS, TVA found that three alternatives would meet the future needs of the Columbia area through 2050. Raising the pool level on Normandy Reservoir would meet projected water needs through 2035; however, the use of available water conservation measures could extend the utility of this alternative through 2050. Preliminary reviews presented in the EIS indicated that all four conceptual action alternatives could be constructed and operated without seriously harming the environment.

Decisions

Land Use EIS

TVA has decided to implement Alternative D/C (Public Use and Protection). TVA will transfer all of the Columbia Project lands to the state of Tennessee subject to certain easements and restrictions. This alternative, which incorporates components of both Alternative D (Resource Management Area) and C (Protective and Recreational Corridor), responds to the public comments TVA received during the EIS process. The bulk of the lands will be retained in public ownership and devoted to recreation and natural resource management. This will protect the cultural and natural resources, including endangered species and wetlands, which exist in the area. Under restrictions in the document transferring ownership of the property, the State could choose to make up to 800 hectares (2,000 acres) of land in the Possible Development Areas available for other recreational uses including residential development which would help respond to some of the development pressures in the area. Prior to the transfer, TVA will convey certain easements to address property access issues and to provide for specific public uses, such as a site for a new school.

TVA closely coordinated the formulation of Alternative D/C with the U.S. Fish and Wildlife Service and Tennessee state natural resource management agencies. The Service has agreed with TVA's determination that implementation of Alternative D/C will not jeopardize the continued existence of any of the endangered or threatened species that are present on, or could be affected by, the restricted use of the former Columbia Project lands. This action will preserve a substantial block of land for open space, wildlife management, and natural resource protection in an area that is under increasing development pressures. Devoting lands to these uses is important now and will become increasingly important to future generations in the middle Tennessee region.

Water Supply EIS

Although agencies typically identify only one EIS alternative as preferable, agencies can identify multiple alternatives as preferable under CEQ's NEPA regulations. 40 CFR § 1502.14.(e). Considering the programmatic nature of the Water Supply EIS and TVA's lack of involvement in future implementation of the action alternatives, TVA identified all of the action alternatives as preferable to not taking any action at all. Accordingly, TVA has concluded that one or more of the action alternatives should be pursued to meet the future water needs in the Maury/southern Williamson County Water Service Area. TVA is not proposing to design or construct any of the facilities. However as a regional water resource agency, TVA can assist in evaluating available alternatives and encourage cooperation among all communities that are dependent on common water resources. Local utilities, government agencies, and other interested parties in the upper Duck River watershed will be the ones to actually decide which water supply alternatives should be pursued.

Environmentally Preferable Alternative

TVA has concluded that Alternative D, Resource Management Area, is the environmentally preferable alternative in the Land Use EIS. Alternative D would likely result in little disturbance of project lands and would best protect natural resources in the area. Little or no land would be transferred or sold out of public ownership. The federal or state agency recipient would commit to manage these lands to protect natural and cultural resources and to enhance recreational use of the area. Most of the Columbia Project lands would become a resource management area. However, TVA decided that Alternative D/C adequately protects the area's natural resources and is the second-most environmentally preferable alternative.

With regard to the Water Supply EIS, TVA has concluded that any of the action alternatives could be implemented with acceptable impacts on the environment. However, the extent of potential environmental effects of the conceptual alternatives is related to the amount of land area that would be modified or disturbed. TVA agrees with EPA that the two alternatives which would involve the least amount of land disturbance (Alternative C—Downstream Water Intake, and Alternative E—Tims Ford Pipeline) also appear likely to have the least potential for adverse effects on the environment (almost exclusively short-term effects associated with construction of the pipelines and other facilities). Both of the other alternatives (Alternative B—Fountain Creek Reservoir, and Alternative D—Raise Normandy Pool Level) would involve modifications in much larger areas and would have substantially more potential for adverse environmental effects. Each of the alternatives also would result in some level of benefits to water quality, aquatic life, and recreation on parts of the Duck River where at least the minimum flow would be higher than under the No Action Alternative. Assuming that the construction impacts per mile of waterline would be comparable, the small size of the intake site and the shorter length of pipeline that would be involved would combine to make Alternative C the most environmentally-preferable alternative.

Environmental Mitigation

Although implementation of Alternative D would have resulted in heightened environmental protection on more land, Alternative D/C was purposefully formulated to safeguard the sensitive natural resources found on the Columbia Project lands. Setting aside land in an expanded river corridor and protecting such lands with a set of comprehensive restrictions substantially avoids the risks of adverse environmental impacts. These comprehensive restrictions also require appropriate review and mitigation of any subsequent potential impacts on natural and cultural resources.

In the Water Supply EIS, the action alternatives have been generally described in light of their conceptual nature at this early stage. If and when a decision is made to provide some additional water for the Maury/southern Williamson County Water Service Area, the sponsors would determine the specific purposes of each project and would develop site-specific plans for the various facilities. As those plans are developed and proposals are made, detailed, site-specific evaluations of environmental effects would be conducted, if required and as appropriate, under the National Environmental Policy Act.

Dated: June 18, 2001.
Kathryn J. Jackson,
Executive Vice President, River System Operations & Environment.

[FR Doc. 01-15729 Filed 6-21-01; 8:45 am]

BILLING CODE 8120-08-U